DEPARTMENT OF THE INTERIOR

Bureau of Indian Affairs

[256A2100DD/AAKC001030/A0A501010.999900253G]

Indian Gaming; Approval by Operation of Law Tribal-State Class III Gaming Compact Amendment Between the Chitimacha Tribe of Louisiana and the State of Louisiana

AGENCY: Bureau of Indian Affairs, Interior.

ACTION: Notice.

SUMMARY: This notice announces the approval by operation of law of an amendment to the Tribal-State compact for the conduct of class III gaming between the Chitimacha Tribe of Louisiana and the State of Louisiana governing the operation and regulation of class III gaming activities. The amendment extends the term of the compact for 7 years after the amendment goes into effect and increases the dollar amount threshold for Tribal licensing and State certification of vendors providing goods and services to the Tribe's gaming facilities.

DATES: The amendment takes effect on March 20, 2025.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: The Indian Gaming Regulatory Act of 1988, 25 U.S.C. 2701 et seq., (IGRA) provides the Secretary of the Interior (Secretary) with 45 days to review and approve or disapprove the Tribal-State compact governing the conduct of class III gaming activity on the Tribe's Indian lands. See 25 U.S.C. 2710(d)(8). If the Secretary does not approve or disapprove a Tribal-State compact within the 45 days, IGRA provides the Tribal-State compact is considered to have been approved by the Secretary, but only to the extent the compact is consistent with IGRA. See 25 U.S.C. 2710(d)(8)(D). The IGRA also requires the Secretary to publish a notice in the Federal Register of the approved Tribal-State compacts for the purpose of engaging in class III gaming activities on Indian lands. See 25 U.S.C. 2710(d)(8)(D). The Department's regulations at 25 CFR 293.4 require all compacts and amendments to be reviewed and approved by the Secretary prior to taking effect.

The Secretary took no action on the amendment to the Tribal-State compact for the conduct of class III gaming between the Chitimacha Tribe of Louisiana and the State of Louisiana within the 45-day statutory review period. Therefore, the amendment is considered to have been approved, but only to the extent it is consistent with IGRA. See 25 U.S.C. 2710(d)(8)(C).

Bryan Mercier,
Director, Bureau of Indian Affairs, Exercising by Delegation the Authority of the Assistant Secretary—Indian Affairs.

[FR Doc. 2025-04735 Filed 3-19-25; 8:45 am]

BILLING CODE 4337-15-P